FEDERAL COMMUNICATIONS COMMISSION

[CC Docket Nos. 93-193, 94-65; DA 05-2194]

Wireline Competition Bureau Approves Plan To Refund Interstate Access Customers of Ameritech, Nevada Bell, and Pacific Bell for 1993 and 1994 Tariff Periods

AGENCY: Federal Communications Commission.

ACTION: Notice.

SUMMARY: This document provides notice that the Wireline Competition Bureau has approved the plan to refund interstate access customers of the Ameritech Operating Companies (Ameritech), Nevada Bell Telephone Company (Nevada Bell), and Pacific Bell Telephone Company (Pacific Bell) for refunds associated with their 1993 and 1994 annual interstate access tariffs. It also provides information as to how refunds may be obtained by interstate access customers of Ameritech, Nevada Bell, and Pacific Bell that are either no longer readily identifiable or that are due refunds of less than $100.

DATES: Former interstate access customers may submit refund claims to SBC Communications, Inc. (SBC) through October 24, 2005.

ADDRESSES: See SUPPLEMENTARY INFORMATION for address postings.

FOR FURTHER INFORMATION CONTACT: Margaret Dailey, Wireline Competition Bureau, Pricing Policy Division, (202) 418-1520, margaret.dailey@fcc.gov.

SUPPLEMENTARY INFORMATION: On July 30, 2004, the Commission released the Add-Back Tariff Investigation Order, FCC 04-151, in CC Docket Nos. 93-193 and 94-65. In that Order, the Commission concluded its investigation of the 1993 and 1994 interstate access tariffs of price cap local exchange carriers (LECs) that implemented a sharing or lower formula adjustment. The Commission found unjust and unreasonable the 1993 annual access tariffs of price cap LECs that implemented a sharing or lower formula adjustment in their 1992 Price Cap Indexes (PCIs) and that failed to apply add-back in computing their 1992 earnings and rates of return and resulting 1993 PCIs. The Commission made the same findings for the 1994 interstate access tariffs of price cap LECs that implemented a sharing or lower formula adjustment in their 1993 PCIs. Finally, the Commission ordered affected price cap LECs to: (1) Recalculate their 1992 and 1993 earnings and rates of return, making an add-back adjustment; (2) determine the appropriate sharing or lower formula adjustment to their PCIs for the subsequent tariff year; (3) compute the amount of any resulting access rate decrease; and (4) submit a plan for refunding the amounts owed to customers plus interest as a result of any such rate decrease.

On August 30, 2004, SBC filed the refund plans required by the Add-Back Tariff Investigation Order and determined that refunds are due to interstate access customers of Pacific Bell for the 1994 tariff period and to interstate access customers of Ameritech and Nevada Bell for both the 1993 and 1994 tariff periods. In the Add-Back Refund Order, DA 05-719, released March 17, 2005, the Wireline Competition Bureau (Bureau) completed its review and approved SBC's refund plans as further detailed in that Order. The Bureau recognized that, due to factors such as bankruptcy, changes in ownership, or simple passage of time, some customers of Ameritech, Nevada Bell, and Pacific Bell may no longer be readily identifiable. Further, the Bureau did not require SBC to identify and notify customers that may be due refunds of less than $100. Customers that SBC cannot identify and customers due refunds of less than $100 may, however, obtain refunds through the following procedure, as specified in paragraph 22 of the Add-Back Refund Order: For at least 60 days after this notice is published in the Federal Register, SBC must post this notice on its company web sites that are most often consulted by its interstate access customers. SBC must also provide an address to which former access customers may submit refund claims by a specified date that is at least 60 days after the refund notice is first posted.

Federal Communications Commission.
Thomas J. Navin,
Chief, Wireline Competition Bureau.

[FR Doc. 05-16614 Filed 8-23-05; 8:45 am]

BILLING CODE 6712-01-P